FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 201375.

Title: Hoegh Autolines/Liberty Global Logistics LLC Space Charter Agreement.

Parties: Hoegh Autoliners AS and Liberty Global Logistics LLC.

Filing Party: Wayne Rohde; Cozen O'Connor.

Synopsis: The agreement authorizes the parties to charter space to/from one another on an “as needed/as available” basis between the U.S. and all foreign countries.

Proposed Effective Date: 12/13/2021.

Location: https://www2.fmc.gov/FMC.Agreements.Web/Public/AgreementHistory/53502.

Dated: November 5, 2021.
Rachel E. Dickon,
Secretary.

[FR Doc. 2021-24564 Filed 11-9-21; 8:45 am]

BILLING CODE 6730-02-P